FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The applications will also be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States.

Unless otherwise noted, comments regarding each of these applications must be received at the Reserve Bank indicated or the offices of the Board of Governors not later than June 7, 2012.

A. Federal Reserve Bank of New York (Ivan Hurwitz, Vice President) 33 Liberty Street, New York, New York 10045-0001:

1. Tompkins Financial Corporation, Ithaca, New York; through its subsidiary TMP Mergeco Inc., Ithaca, New York; to merge with VIST Financial Corp., and thereby acquire VIST Bank, both in Wyomissing, Pennsylvania.

In connection with this proposal, TMP Mergeco Inc., Ithaca, New York, has applied to become a bank holding company by acquiring 100 percent of the voting shares of VIST Financial Corp., and its subsidiary VIST Bank, both in Wyomissing, Pennsylvania.

B. Federal Reserve Bank of Atlanta (Chapelle Davis, Assistant Vice President) 1000 Peachtree Street NE., Atlanta, Georgia 30309:

1. Community Bancshares of Mississippi, Inc. Employee Stock Ownership Plan and Community Bancshares of Mississippi, Inc., both in Brandon, Mississippi; to acquire 100 percent of the voting shares of Community Holding Company of Florida, Inc., Miramar Beach, Florida, and thereby indirectly acquire Community Bank, Destin, Florida.

C. Federal Reserve Bank of Chicago (Colette A. Fried, Assistant Vice President) 230 South LaSalle Street, Chicago, Illinois 60690-1414:

1. Northwest Investment Corp., Davenport, Iowa; to become a bank holding company following the conversion of its subsidiary, Northwest Bank & Trust Company, Davenport, Iowa, from a federally chartered savings bank to a state chartered bank.

Board of Governors of the Federal Reserve System, May 8, 2012.
Margaret McCloskey Shanks,
Associate Secretary of the Board.

[FR Doc. 2012-11481 Filed 5-11-12; 8:45 am]

BILLING CODE 6210-01-P